DEPARTMENT OF TRANSPORTATION

Pipeline and Hazardous Materials Safety Administration

[Docket No. PHMSA-2010-0307]

Pipeline Safety: Emergency Preparedness Communications

AGENCY: Pipeline and Hazardous Materials Safety Administration (PHMSA); DOT.

ACTION: Notice; Issuance of Advisory Bulletin.

SUMMARY: PHMSA is issuing an Advisory Bulletin to remind operators of gas and hazardous liquid pipeline facilities that they must make their pipeline emergency response plans available to local emergency response officials. PHMSA recommends that operators provide their emergency response plans to officials through their required liaison and public awareness activities. PHMSA intends to evaluate the extent to which operators have provided their emergency plans to local emergency officials when PHMSA performs future inspections for compliance with liaison and public awareness code requirements.

FOR FURTHER INFORMATION CONTACT: John Hess by phone at 202-366-4595 or by e-mail at john.hess@dot.gov. Information about PHMSA may be found at http://phmsa.dot.gov.

SUPPLEMENTARY INFORMATION:

Background

Federal regulations for both gas and hazardous liquid pipelines require operators to have written procedures for responding to emergencies involving their pipeline facility. Because pipelines are often located in public space, the regulations further require that operators include procedures for planning with emergency and other public officials to ensure a coordinated response. Under 49 CFR 192.605, 192.615, and 195.402, operators must include in their emergency plans provisions for coordinating with appropriate fire, police, and other public officials both preplanned drills and actual responses to pipeline emergencies. Operators must also establish and maintain liaison with the emergency officials to, among other things, acquaint the officials and the operator with their respective responsibilities and resources in planning for and responding to emergencies.

Under §§ 192.616 and 195.440, operators must also develop and implement a written continuing public education program that follows the American Petroleum Institute's (API) Recommended Practice (RP) 1162. Incorporated by reference, API RP 1162 further requires operators to develop their emergency response plans with appropriate emergency officials to include in such plans information about how emergency officials can access the operator's emergency response plan, and to conduct emergency response drills.

Advisory Bulletin (ADB-10-08)

To: Owners and Operators of Hazardous Liquid and Gas Pipeline Systems.

Subject: Emergency Preparedness Communications.

Advisory: To further enhance the Department's safety efforts, PHMSA is issuing this Advisory Bulletin about emergency preparedness communications between pipeline operators and emergency responders.

To ensure a prompt, effective, and coordinated response to any type of emergency involving a pipeline facility, pipeline operators are required to maintain an informed relationship with emergency responders in their jurisdiction.

PHMSA reminds pipeline operators of these requirements, and in particular, the need to share the operator's emergency response plans with emergency responders. PHMSA recommends that operators provide such information to responders through the operator's liaison and public awareness activities, including during joint emergency response drills. PHMSA intends to evaluate the extent to which operators have provided local emergency responders with their emergency plans when PHMSA performs future inspections for compliance with relevant requirements.

Issued in Washington, DC, on October 28, 2010.
Jeffrey D. Wiese,
Associate Administrator for Pipeline Safety.

[FR Doc. 2010-27774 Filed 11-2-10; 8:45 am]

BILLING CODE 4910-60-P